DEPARTMENT OF THE INTERIOR

National Park Service

National Register of Historic Places; Notification of Pending Nominations

Nominations for the following properties being considered for listing in the National Register were received by the National Park Service before December 13, 2003. Pursuant to section 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by January 21, 2004.

Patrick W. Andrus,
Acting, Keeper of the National Register of Historic Places.

ARIZONA

Yavapai County

West Prescott Historic District (Boundary Increase II), 617-621 Glenwood Ave., 330,334,340,344 and 348 Moreland Circle, Prescott, 03001449

ARKANSAS

Boone County

Barham, Elliott and Anna, House, 4085 West St., Zinc, 03001453

Bradley County

Mt. Olive Rosenwald School, Bradley Rd. 45, Mt. Olive, 03001454

Warren Post Office, 236 S. Main St. (US 63B), Warren, 03001460

Clark County

Arkansas 51, Old, Curtis to Gum Springs, (Arkansas Highway History and Architecture MPS) W of U.S. 67, starting approx. 0.5 mi. S of jct. of U.S. 67 and Curtis Cemetery Rd., and ending at the AR 26 and U.S. 67, Curtis, 03001457

Biscoe, Nannie Gresham, House, 227 Cherry St., Arkadelphia, 03001450

Rosedale Plantation Barn, 879 Old Military Rd., Arkadelphia, 03001451

Dallas County

Dallas County Training School High School Building, 934 Center St., Fordyce, 03001455

Lonoke County

St. Louis Southwest Railway (Cotton Belt Route) Depot, (Historic Railroad Depots of Arkansas MPS) Main St. (AR 31), Coy, 03001459

Miller County

Texarkana, Arkansas, Municipal Building, Walnut and third Sts., Texarkana, 03001456

US 67, Old, Mandeville, (Arkansas Highway History and Architecture MPS) AR 296, Miller Cty Rd. 138 and SE of current U.S. 67, Mandeville, 03001458

Randolph County

Cedar Grove School #81, (Public Schools in the Ozarks MPS) Brockett Community, aprrox. 5 mi. N of Pocahontas, AR 115, Pocahontas, 03001452

Searcy County

Tharp House, 15 North West Ave., Fayetteville, 03001461

ILLINOIS

Du Page County

Robinwood, 208 Arlington, Elmhurst, 03001463

Lake County

Jewel Tea Company, Ince, 511 Lake Zurich Rd., Barrington, 03001462

Sangamon County

Bolivia Road Bridge, Axross the North Fork of the Sangamon R., Bolivia, 03001464

KANSAS

Cloud County

Union Pacific Railroad Depot, (Railroad Resources of Kansas MPS) 300 Washington St., Concordia, 03001465

Douglas County

Vinland Fair Association Fairgrounds Exhibit Building, 1736 N. 700 Rd., Baldwin, 03001466

Marion County

Amelia Park Bridge, 0.5 mi. W of U.S. 77 on Cty Rd. 260th. Approx 1 mi. NE of Antelope, Antelope, 03001467

Osage County

Karnes Stone Barn, 4204 E. 129th St., Carbondale, 03001468

MASSACHUSETTS

Plymouth County

Hull Shore Drive, Nantasket Avenue, Metropolitan Park System of Greater Boston MPS, (Metropolitan Park System of Greater Boston MPS) Hull Shore Dr., Nantasket Ave., Hull, 03001470

Suffolk County

Winthrop Parkway, Metropolitan Parkway System of Greater Boston, (Metropolitan Park System of Greater Boston MPS) Winthrop Parkway, Revere, 03001471

Winthrop Shore Dr., Metropolitan Park System of Greater Boston, (Metropolitan Park System of Greater Boston MPS) Winthrop Shore Dr., Winthrop, 03001469

MISSOURI

Boone County

Ballenger Building, (Downtown Columbia, Missouri MPS)

27-29 South Ninth St., Columbia, 03001474

North Ninth Street Historic District, (Downtown Columbia, Missouri MPS)

5-36 North Ninth St., Columbia, 03001473

OREGON

Clackamas County

Reid's, Wilbur and Evelyn, Alderbrook Lodge, 16863 W. Rolling Riffle Ln., Boring, 03001477

Jackson County

Mountain House,1148 Old Highway 99 South,Ashland, 03001479

Josephine County

Schmidt, Claus and Hannchen, House, 508 SW 5th, Grants Pass, 03001478

Marion County

Champoeg Cemetery, Champoeg Cemetery Rd., Aurora, 03001475

Multnomah County

Portland Buddhist Church, 312 NW Tenth Ave., Portland, 03001476

Umatilla County

Columbia College, 722 S. Main St., Milton-Freewater, 03001481

UTAH

Davis County

Porter, Nathan T. and Anna, House, (Centreville MRA) 224 South 210 West, Centerville, 03001482

Salt Lake County

Riverton Historic District, Roughly 12300 S. Redwood Rd. to 12600 S. Redwood Rd., Riverton, 03001484

Summit County

Weeter, John C., House, (Mining Boom Era Houses TR) 843 Norfolk, Park City, 03001480

Utah County

Stewart—Hills House, (Orem, Utah MPS) 275 East 2000 South, Orem, 03001483

VIRGINIA

Portsmouth Independent City

Downtown Portsmouth Historic District, Roughly bounded by I-264, Middle St., Primrose St. and Queen St., Portsmouth (Independent City), 03001485

WISCONSIN

Milwaukee County

East Village Historic District, Generally bounded by North Humboldt, East Brady, North Warren and Milwaukee R, Milwaukee, 03001486

[FR Doc. 04-139 Filed 1-5-04; 8:45 am]

BILLING CODE 4312-51-P